DEPARTMENT OF DEFENSE

GENERAL SERVICES ADMINISTRATION

NATIONAL AERONAUTICS AND SPACE ADMINISTRATION

48 CFR Parts 2 and 37

[FAC 97—22 Correction]

Federal Acquisition Regulation; Correction to FAR Case 1999—403, Definitions

AGENCIES: Department of Defense (DOD), General Services Administration (GSA), and National Aeronautics and Space Administration (NASA).

ACTION: Corrections.

SUMMARY: The Civilian Agency Acquisition Council and the Defense Acquisition Regulations Council are issuing corrections to the definition of “Performance—based contracting.”

EFFECTIVE DATE: May 15, 2001.

FOR FURTHER INFORMATION CONTACT: Ms. Laurie Duarte at (202) 501-4755, General Services Administration, FAR Secretariat, Washington, DC 20405.

Corrections

In the document appearing in the Federal Register at 66 FR 2116, January 10, 2001:

1. On page 2124, in the bottom of the third column, revise the definition “Performance—based contracting” to read as follows:

2.101 [Corrected]

* * * * *

Performance-based contracting means structuring all aspects of an acquisition around the purpose of the work to be performed with the contract requirements set forth, in clear, specific, and objective terms with measurable outcomes as opposed to either the manner by which the work is to be performed or broad and imprecise statements of work.

* * * * *

37.101 [Corrected]

2. On page 2133, in instruction number 93., remove the words “ ‘Performance-based contracting’ and”.

Dated: May 10, 2001.
Al Matera,
Director, Acquisition Policy Division.

[FR Doc. 01-12214 Filed 5-14-01; 8:45 am]

BILLING CODE 6820-EP-P